NATIONAL TRANSPORTATION SAFETY BOARD

Investigative Hearing

A recent Alaska Airlines accident in Portland, Oregon, has motivated this investigative hearing.

On January 5, 2024, about 1714 Pacific standard time, Alaska Airlines flight 1282, a Boeing 737-9, N704AL, returned to Portland International Airport (PDX), Portland, Oregon, after the left mid exit door (MED) plug departed the airplane leading to a rapid decompression. The airplane landed on runway 28L at PDX without further incident, and all occupants (2 flight crewmembers, 4 cabin crewmembers, and 171 passengers) deplaned at the gate. Seven passengers and one flight attendant received minor injuries. The flight was operated under title 14 Code of Federal Regulations (CFR) part 121 as a scheduled domestic passenger flight from PDX to Ontario, California (ONT).

The investigative hearing will discuss the following issue areas:

• Overview of B737-9 Manufacturing and Inspection

• Circumstances that Led to Opening MED Plug

• Safety Management Systems, Quality Management Systems

• FAA Oversight of Boeing and Spirit AeroSystems

Parties to the hearing are the Air Line Pilots Association; Alaska Airlines; Association of Flight Attendants; Federal Aviation Administration; International Association of Machinists and Aerospace Workers; and Spirit AeroSystems.

Order of Proceedings

1. Opening Statement by the Chair of the Board of Inquiry

2. Introduction of the Board of Inquiry and Technical Panel

3. Introduction of the Parties to the Hearing

4. Introduction of Exhibits by Hearing Officer

5. Overview of the incident and the investigation by Investigator-In-Charge

6. Calling of Witnesses by Hearing Officer and Examination of Witnesses by Board of Inquiry, Technical Panel, and Parties

7. Closing Statement by the Chair of the Board of Inquiry

The investigative hearing will be held at the NTSB Boardroom and Conference Center, 429 L'Enfant Plaza East SW, Washington, DC 20594 on Tuesday, August 6, 2024, 9 a.m. to 7 p.m. eastern daylight time (EDT), and Wednesday, August 7, 2024, 9 a.m. to 7 p.m. EDT.

Media planning to cover the investigative hearing are asked to contact Peter Knudson at (202) 314-6100 or mediarelations@ntsb.gov.

The investigative hearing will be transmitted live via the NTSB's YouTube channel at https://www.youtube.com/user/NTSBgov. An archival video of the hearing will be available via the website for 30 days after the hearing.

Individuals requiring reasonable accommodation and/or wheelchair access directions should contact Doug Brazy at (202) 314-6563 or by email at AS1282Hearing@ntsb.gov. NTSB Investigative Hearing Officer: Doug Brazy—AS1282Hearing@ntsb.gov.

The National Transportation Safety Board is holding this public hearing pursuant to the provisions of the Government in the Sunshine Act (5 U.S.C. 552b) and as authorized by 49 CFR 845.2.

LaSean R. McCray,
Alternate Federal Register Liaison Officer.

[FR Doc. 2024-16334 Filed 7-24-24; 8:45 am]

BILLING CODE 7533-01-P